DEPARTMENT OF HOMELAND SECURITY

U.S. Customs and Border Protection

Modification and Extension of the Post-Entry Amendment Processing Test; Correction

AGENCY: Customs and Border Protection, Department of Homeland Security.

ACTION: General notice; correction.

SUMMARY: On August 21, 2007, U.S. Customs and Border Protection (CBP) published a general notice in the Federal Register announcing a modification of the CBP post-entry amendment processing test and the discontinuance of the supplemental information letter (SIL) policy. This document corrects the previously published notice concerning its statement that timely filed individual amendment letters (now known as single post entry amendments (PEAs) or single PEAs) will be treated as protests under 19 U.S.C. 1514 where the entry summaries covered by the PEAs were liquidated without consideration of the requested amendment. In such circumstances, CBP may reliquidate the entry summaries under 19 U.S.C. 1501 based on the PEAs or the importer may file a protest in accordance with 19 U.S.C. 1514. CBP will not treat single PEAs filed before liquidation as protests.

DATES: This correction of the previously published test modification as described in this document is effective on April 11, 2008.

ADDRESSES: Written comments regarding this correction and the previously published test modification referenced above should be addressed to Customs and Border Protection, Entry, Summary and Drawback Branch, Office of International Trade, ATTN: Post-Entry amendment, 1300 Pennsylvania Avenue, NW., Room (L-4), Washington, DC 20229.

FOR FURTHER INFORMATION CONTACT: Questions pertaining to any aspect of this notice, or the previously published notice referenced above, should be directed to Jennifer Dolan, Customs and Border Protection, Entry, Summary and Drawback Branch, Office of International Trade, at (202) 863-6538 or via e-mail at Jennifer.Dolan@dhs.gov.

SUPPLEMENTARY INFORMATION: On August 21, 2007, CBP published a general notice in the Federal Register (72 FR 46654) announcing a modification of the PEA test. The PEA test procedure allows test participants (importers) to amend entry summaries (not informal entries) prior to liquidation by filing with CBP either a single PEA upon discovery of certain kinds of errors or a quarterly tracking report covering certain other errors that occurred during the quarter. The test modification, which became effective on September 20, 2007, concerned the timeliness of filing single PEAs. Prior to the modification, the test participant was required to file a single PEA promptly after discovery of a covered error and prior to the liquidation of the subject entry summary. The test procedure as modified requires that a single PEA be filed at least 20 days before the scheduled liquidation date of the subject entry summary.

The modification notice explained that an untimely filed single PEA would be rejected and a timely filed single PEA would be treated by CBP as a protest under 19 U.S.C. 1514 in any instance where the entry summaries are not unset or processed by the scheduled liquidation date and liquidation therefore occurs without benefit of the requested amendment.

Correction

Under 19 U.S.C. 1514, a protest must be filed within a certain period after, not before, certain specified CBP actions, one of which is liquidation of the entry summary. To treat a single PEA filed prior to the liquidation, as described above, as a protest of the liquidation is contrary to the terms of the statute. Therefore, this notice specifies that in the instance of such liquidation, performed without consideration of the PEA, CBP may reliquidate the entry summary voluntarily under 19 U.S.C. 1501 or the importer may file a protest under 19 U.S.C. 1514.

Dated: April 7, 2008.
Daniel Baldwin,
Assistant Commissioner, Office of International Trade.

[FR Doc. E8-7695 Filed 4-10-08; 8:45 am]

BILLING CODE 9111-14-P